POSTAL SERVICE

Board of Governors; Sunshine Act Meeting

Board Votes To Close July 21, 2009, Meeting

In person and by telephone vote on July 21, 2009, a majority of the members contacted and voting, the Board of Governors of the United States Postal Service voted unanimously to close to public observation its meeting held in Washington, DC via teleconference. The Board determined that no earlier public notice was possible.

Item Considered

1. Strategic Issues.

General Counsel Certification

The General Counsel of the United States Postal Service has certified that the meeting was properly closed under the Government in the Sunshine Act.

Contact Person for More Information:

Requests for information about the meeting should be addressed to the Secretary of the Board, Julie S. Moore, at (202) 268-4800.

Julie S. Moore,
Secretary.

[FR Doc. E9-18019 Filed 7-24-09; 4:15 pm]

BILLING CODE 7710-12-P